DEPARTMENT OF HOMELAND SECURITY

Coast Guard

33 CFR Part 117

[Docket No. USCG-2010-1090]

Drawbridge Operation Regulations; Harlem River, New York City, NY

AGENCY: Coast Guard, DHS.

ACTION: Notice of temporary deviation from regulations.

SUMMARY: The Commander, First Coast Guard District, has issued a temporary deviation from the regulation governing the operation of the 103rd Street (Wards Island) Bridge at mile 0.0, across the Harlem River, New York City, New York. The deviation is necessary to facilitate bridge rehabilitation maintenance. This deviation allows the bridge to remain in the closed position for one hundred nineteen days.

DATES: This deviation is effective from January 10, 2011 through April 29, 2011.

ADDRESSES: Documents mentioned in this preamble as being available in the docket are part of docket USCG-2010-1090 and are available online at http://www.regulations.gov, inserting USCG-2010-1090 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, joe.m.arca@uscg.mil telephone (212) 668-7165. If you have questions on viewing the docket, call Renee V. Wright, Program Manager, Docket Operations, telephone 202-366-9826.

SUPPLEMENTARY INFORMATION: The 103rd Street (Wards Island) Bridge across the Harlem River at mile 0.0 has a vertical clearance in the closed position of 55 feet at mean high water and 60 feet at mean low water. The existing drawbridge operation regulations are listed at 33 CFR 117.789(b)(1).

The waterway has seasonal recreational vessels, and commercial vessels of various sizes.

The owner of the bridge, New York City Department of Transportation, requested a temporary deviation to facilitate rehabilitation construction at the bridge.

Under this temporary deviation the 103rd Street (Wards Island) Bridge, may remain in the closed position from January 10, 2011 through April 29, 2011. Vessels that can pass under the bridge without a bridge opening may do so at all times.

In accordance with 33 CFR 117.35(e), the bridge must return to its regular operating schedule immediately at the end of the designated time period. This deviation from the operating regulations is authorized under 33 CFR 117.35.

Dated: January 5, 2011.
Gary Kassof,
Bridge Program Manager, First Coast Guard District.

[FR Doc. 2011-1194 Filed 1-19-11; 8:45 am]

BILLING CODE 9110-04-P